DEPARTMENT OF ENERGY

Federal Energy Regulatory Commission

[Docket Nos. CP20-50-000; CP20-51-000]

Tennessee Gas Pipeline Company, L.L.C; Southern Natural Gas Company, L.L.C; Notice of Requests for Extension of Time

Take notice that on January 26, 2024, Tennessee Gas Pipeline Company, L.L.C. (Tennessee) and Southern Natural Gas Company, L.L.C. (Southern) requested that the Federal Energy Regulatory Commission (Commission) grant an extension of time, until September 30, 2025, to construct and place into service its Evangeline Pass Project (Project) located in Louisiana as authorized in the Order Issuing Certificates and Approving Abandonments (Order).¹ The Order required Tennessee and Southern to complete construction of the Project and make it available for service within two years of the date of the Order, or by March 25, 2024.

¹ Tennessee Gas Pipeline Company, L.L.C. and Southern Natural Gas Company, L.L.C., 178 FERC ¶ 61,199 (2022).

Tennessee and Southern assert that they faced permitting delays after the Order Addressing Arguments Raised on Rehearing was issued on September 29, 2022.² They submitted an implementation plan and secured approval from the Commission on September 8, 2023, to begin construction. However, they have faced delays in securing construction contractors, finalizing land acquisition, and obtaining state and local permits. As a result, they anticipate beginning construction activities during the first quarter of 2024. Tennessee and Southern have requested an extension of the in-service date to September 30, 2025, to ensure that all necessary restoration activities are underway, and the Project facilities are fully constructed.

² Tennessee Gas Pipeline Company, L.L.C. and Southern Natural Gas Company, L.L.C., 180 FERC ¶ 61,205 (2022).

This notice establishes a 15-calendar day intervention and comment period deadline. Any person wishing to comment on Tennessee and Southern's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (NGA) (18 CFR 157.10).

As a matter of practice, the Commission itself generally acts on requests for extensions of time to complete construction for NGA facilities when such requests are contested before order issuance. For those extension requests that are contested,³ the Commission will aim to issue an order acting on the request within 45 days.⁴ The Commission will address all arguments relating to whether the applicant has demonstrated there is good cause to grant the extension.⁵ The Commission will not consider arguments that re-litigate the issuance of the certificate order, including whether the Commission properly found the project to be in the public convenience and necessity and whether the Commission's environmental analysis for the certificate complied with the National Environmental Policy Act (NEPA).⁶ At the time a pipeline requests an extension of time, orders on certificates of public convenience and necessity are final and the Commission will not re-litigate their issuance.⁷ The Director of the Office of Energy Projects, or his or her designee, will act on all of those extension requests that are uncontested.

³ Contested proceedings are those where an intervenor disputes any material issue of the filing. 18 CFR 385.2201(c)(1).

⁴ Algonquin Gas Transmission, LLC, 170 FERC ¶ 61,144, at P 40 (2020).

⁵ Id. at P 40.

⁶ Similarly, the Commission will not re-litigate the issuance of an NGA section 3 authorization, including whether a proposed project is not inconsistent with the public interest and whether the Commission's environmental analysis for the permit order complied with NEPA.

⁷ Algonquin Gas Transmission, LLC, 170 FERC ¶ 61,144, at P 40 (2020).

In addition to publishing the full text of this document in the Federal Register, the Commission provides all interested persons an opportunity to view and/or print the contents of this document via the internet through the Commission's Home Page (http://www.ferc.gov) using the “eLibrary” link. Enter the docket number excluding the last three digits in the docket number field to access the document. Public access to records formerly available in the Commission's physical Public Reference Room, which was located at the Commission's headquarters, 888 First Street NE, Washington, DC 20426, are now available via the Commission's website. For assistance, contact FERC at FERCOnlineSupport@ferc.gov or call toll free, (866) 208-3676 or TTY (202) 502-8659.

The Commission strongly encourages electronic filings of comments in lieu of paper using the “eFile” link at http://www.ferc.gov. In lieu of electronic filing, you may submit a paper copy which must reference the Project docket number.

To file via USPS: Debbie-Anne A. Reese, Acting Secretary, Federal Energy Regulatory Commission, 888 First Street NE, Washington, DC 20426

To file via any other courier: Debbie-Anne A. Reese, Acting Secretary, Federal Energy Regulatory Commission, 12225 Wilkins Avenue, Rockville, Maryland 20852

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Comment Date: 5:00 p.m. Eastern Time on February 15, 2024.

Dated: January 31, 2024.
Debbie-Anne A. Reese,
Acting Secretary.

[FR Doc. 2024-02378 Filed 2-5-24; 8:45 am]

BILLING CODE 6717-01-P